NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 6, 2012. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, National Records Management Program (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Risk Management Agency (N1-258-08-9, 2 items, 1 temporary item). Records of the Federal Crop Insurance Corporation Board of Directors, including background materials, working files, drafts, and notes. Proposed for permanent retention are official documentation records, such as bylaws, annual reports, budget presentations, and docket files.

2. Department of Defense, Defense Finance and Accounting Service, (DAA-0507-2012-0001, 1 item, 1 temporary item). Notices from management identifying military pay transactions that require manual rather than electronic processing.

3. Department of Defense, Defense Threat Reduction Agency (N1-374-09-7, 1 item, 1 temporary item). Master files of an electronic information system containing information used to award grants, including solicitation materials, user registration data, submissions, award and post-award data, and related reports.

4. Department of Energy, National Nuclear Security Administration (N1-434-12-1, 1 item, 1 temporary item). Records and inventories of medicine maintained at medical facilities.

5. Department of Health and Human Services, Centers for Medicare & Medicaid Services (DAA-0440-2012-0006, 1 item, 1 temporary item). Master files of an electronic information system used to document training received by contractors responsible for surveying and certifying health facilities.

6. Department of the Interior, Office of the Secretary (DAA-0048-2011-0001, 10 items, 10 temporary items). Records relating to the administrative operation of the headquarters museum. Included are collection management records, exhibit records, annual inventory reports, research requests, reproduction requests, sign-in logs, monitoring records, evaluation files, and brochures.

7. Department of Justice, Civil Division (DAA-0060-2012-0001, 2 items, 2 temporary items). Master files and outputs of an electronic information system used to track the status of requests for collection of evidence in the United States made by foreign countries.

8. Department of Justice, Federal Bureau of Investigation (N1-65-11-17, 1 item, 1 temporary item). Records relating to the administration of the foreign language program.

9. Department of the Navy, Chief of Naval Operations (DAA-0428-2011-0001, 1 temporary item). Copies of records relating to Privacy Impact Assessments and System of Records Notices, including forms, instructions, copies of replies to original requests, and copies of final work product.

10. Department of State, Bureau of East Asian and Pacific Affairs (N1-59-10-15, 5 items, 5 temporary items). Records of the Executive Office, including general administrative and management files of the Executive Director, as well as staff budget records and subject files for post management.

11. Department of Transportation, Federal Motor Carrier Safety Administration (N1-557-11-1, 7 items, 7 temporary items). Master and other files of electronic information systems used to store insurance-related documents, track inspection of hazardous material packaging, and provide for a repository of hazardous materials transportation routes.

12. Department of Transportation, Federal Motor Carrier Safety Administration (N1-557-11-3, 4 items, 4 temporary items). Master and other files of electronic information systems used to track data quality in Federal and non-Federal transportation information systems. Included are data and web files.

13. Department of the Treasury, Internal Revenue Service (N1-58-11-23, 1 item, 1 temporary item). Records consist of a form used by tax payers to acknowledge receipt and responsibility of their personal identification number.

14. Department of the Treasury, Internal Revenue Service (N1-58-11-24, 3 items, 3 temporary items). Master files, outputs, and system documentation of an electronic information system used to control incoming submissions and correspondence.

15. Department of the Treasury, Internal Revenue Service (N1-58-11-25, 2 items, 2 temporary items). Master files and system documentation of an electronic information system used to maintain applications and registration records of professional tax preparers.

16. Department of the Treasury, Office of the Deputy Assistant Secretary for Human Resources and Chief Human Capital Officer (N1-56-11-2, 2 items, 2 temporary items). Records of the Office of Civil Rights and Diversity, including discrimination complaint review files and statistical data monitoring compliance.

17. Social Security Administration, Deputy Commissioner of Operations (DAA-0047-2011-0003, 4 items, 3 temporary items). Records of the Office of Public Service and Operations Support related to the implementation of requirements set in the Coal Act of 1992. Includes administrative materials related to the assignment of miners to the appropriate employer for benefits, as well as copies of Statement of Earnings forms. Proposed for permanent retention are records related to origins of the legislation and its implementation, including indexes, correspondence, and background files.

Dated: April 23, 2012.
Paul M. Wester, Jr.,
Chief Records Officer for the U.S. Government.

[FR Doc. 2012-10949 Filed 5-4-12; 8:45 am]

BILLING CODE 7515-01-P